DEPARTMENT OF THE INTERIOR

National Park Service

[NPS-AKR-GLBA-NPS0037098; 5471 PPMRSNR1Z.NN0000 PX.DGRSM0203.00.1; OMB Control Number 1024-0281]

Agency Information Collection Activities: National Park Service Bear Sighting and Encounter Reports

AGENCY: National Park Service, Interior.

ACTION: Notice of information collection; request for comment.

SUMMARY: In accordance with the Paperwork Reduction Act of 1995, we, the National Park Service (NPS) are proposing to revise a currently approved information collection.

DATES: Interested persons are invited to submit comments on or before March 26, 2024.

ADDRESSES: Send your comments on this information collection request (ICR) by mail to the NPS Information Collection Clearance Officer (ADIR-ICCO), 13461 Sunrise Valley Drive, (MS-244) Reston, VA 20171 (mail); or phadrea_ponds@nps.gov (email). Please reference Office of Management and Budget (OMB) Control Number “1024-0281” in the subject line of your comments.

FOR FURTHER INFORMATION CONTACT: To request additional information about this Information Collection Request (ICR), contact Ryan Williamson, Wildlife Biologist, Great Smoky Mountains National Park; at ryan_williamson@nps.gov (email); or 865-436-1248 (telephone). Or contact Tania Lewis, Wildlife Biologist, Glacier Bay National Park & Preserve; at tania_lewis@nps.gov (email); or 907-697-2668 (telephone). Please reference OMB Control Number 1024-0281 in the subject line of your comments. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: In accordance with the Paperwork Reduction Act of 1995 (PRA, 44 U.S.C. 3501 et seq.) and 5 CFR 1320.8(d)(1), all information collections require approval under the PRA. We may not conduct, or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The National Park Service Organic Act, 54 U.S.C. 100101(a) et seq., requires that the NPS preserve national parks for the enjoyment, education, and inspiration of this and future generations. In order to monitor resources and bear management in areas managed by the National Park Service and to enhance the safety of future visitors, we are requesting to revise OMB Control Number: 1024-0281 to include a new system-wide form for bear sightings and encounters by visitors in National Parks.

Bear sighting data provide park managers with important information used to determine bear movements, habitat use, and species distribution. This information is important for backcountry management and planning, field research planning, and educational outreach for visitors. Bear-human interaction data is vital to understanding bear responses to people, detecting changes in bear behavior, and identifying areas of high bear-human conflict. Obtaining immediate information on bear-human conflicts allows managers to respond promptly to mitigate further conflicts. Proactive mitigation includes notifying other backcountry users, issuing advisories or recommendations, or issuing closures to prevent further conflicts and maintain public safety. Glacier Bay National Park and Preserve currently uses Form 10-405 “Tatshenshini—Alsek River Bear Report and Form 10-406 “Bear Information Management Report” to record bear sightings when a bear enters a camp, approaches the group, damages gear, obtains food, and/or acts in an aggressive or threatening manner towards the group. We are requesting to add a new system-wide form to this collection. Proposed form 10-407 “National Park Service Bear Sighting and Encounter Reports” will be available in any areas managed by the National Park Service where bear sightings may occur.

Title of Collection: National Park Service Bear Sighting and Encounter Reports.

OMB Control Number: 1024-0281.

Form Number: 10-405, “Tatshenshini—Alsek River Bear Report,” 10-406, “Bear Information Management Report”, and 10-407 “National Park Service Bear Sighting and Encounter Reports.”

Type of Review: Revision of a currently approved collection.

Description of Respondents: General Public.

Total Estimated Number of Annual Respondents: 478.

Total Estimated Number of Annual Responses: 478.

Estimated Completion Time per Response: Average 5 minutes.

Total Estimated Number of Annual Burden Hours: 54 hours.

Respondent's Obligation: Voluntary.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2024-01557 Filed 1-25-24; 8:45 am]

BILLING CODE 4312-52-P